DEPARTMENT OF COMMERCE

National Oceanic and Atmospheric Administration

50 CFR Part 218

[Docket No. 100817363-1137-02]

RIN 0648-BA14

Taking and Importing of Marine Mammals; Military Training Activities Conducted Within the Gulf of Alaska Temporary Maritime Activities Area; Correction

AGENCY: National Marine Fisheries Service (NMFS), National Oceanic and Atmospheric Administration (NOAA), Commerce.

ACTION: Final rule; correction.

SUMMARY: On May 4, 2011, a final rule was published in the Federal Register announcing that NMFS had issued regulations to govern the unintentional take of marine mammals incidental to Navy training activities conducted in the Gulf of Alaska Temporary Maritime Training Activities Area. That document inadvertently omitted the MK-39 Expendable Mobile ASW Training Target (EMATT) from Table 1. In addition, Table 5 inadvertently omitted a column displaying the total number of takes authorized over the course of the 5-year rule. This document corrects those oversights. All other information is unchanged.

DATES: Effective May 4, 2011, through May 4, 2016.

FOR FURTHER INFORMATION CONTACT: Brian D. Hopper, (301) 713-2289.

SUPPLEMENTARY INFORMATION: The final rule announcing that NMFS had issued regulations to govern the unintentional take of marine mammals incidental to Navy training activities conducted in the Gulf of Alaska Temporary Maritime Training Activities Area (76 FR 25480; May 4, 2011) contained an error in Table 1 that omitted a device NMFS intended to include and an error in Table 5 that omitted a column displaying the total takes authorized over 5 years. Accordingly, in FR Doc. No. 2011-10440 on pages 25482 and 25503, respectively, Tables 1 and 5 are revised to read as follows:

BILLING CODE 3510-22-P

BILLING CODE 3510-22-C

All other information contained in the document is unchanged.

Dated: May 9, 2011.
P. Michael Payne,
Chief, Permits, Conservation and Education Division, Office of Protected Resources, National Marine Fisheries Service.

[FR Doc. 2011-11793 Filed 5-12-11; 8:45 am]

BILLING CODE 3510-22-P